ENVIRONMENTAL PROTECTION AGENCY

40 CFR Part 167

[FRL-6530-5]

Change of Address for Submission of Certain Reports; Technical Amendment

AGENCY: Environmental Protection Agency (EPA).

ACTION: Final rule; technical amendment.

SUMMARY: This document announces a technical amendment revising the address foreign pesticide producing establishments are to use to obtain and submit forms to the Agency .

DATES: This document is effective January 31, 2000.

FOR FURTHER INFORMATION CONTACT: Foreign pesticide producing establishments should contact: FIFRA Foreign Establishment Registration Contact, Agriculture and Ecosystems Division (2225A), Office of Compliance, Office of Enforcement and Compliance Assurance, U.S. Environmental Protection Agency, Ariel Rios Building, 1200 Pennsylvania Avenue, N.W., Washington, DC 20460, (202) 564-5008; Fax: (202) 564-0085.

SUPPLEMENTARY INFORMATION: Section 7 of the Federal Insecticide, Fungicide, and Rodenticide Act (FIFRA) requires that pesticides subject to the Act be produced only in establishments registered with the EPA, and requires that registered establishments file annual reports with the Agency. The Agency has established regulations at 40 CFR part 167 to implement the requirement of section 7 of FIFRA. Section 167.90 of these regulations directs that applications for registration of establishments and annual reports be sent to the appropriate EPA regional office (if a registered establishment is located in the United States) or to a specified address at EPA headquarters (if a registered establishment is located in any other country). The Agency is, by this document, amending 40 CFR 167.90(b) by revising the address to be used by foreign establishments when submitting applications or annual reports to the Agency. This technical amendment to the regulations will become effective upon publication of this document in the Federal Register.

List of Subjects in Part 167

Environmental protection, Pesticides and pests, Reporting and recordkeeping requirements.

Dated: January 18, 2000.
Michael M. Stahl,
Acting Director, Office of Compliance, Office of Enforcement and Compliance Assurance.

Therefore, 40 CFR Part 167 is amended as follows:

PART 167—[AMENDED]

1. The authority citation for Part 167 continues to read as follows:

Authority: 7 U.S.C. 136(e) and (w)

2. In § 167.90(b), the address at the end of the paragraph is revised to read:

§ 167.90 Where to obtain and submit forms.

* * * * *

(b) * * *

U.S. Environmental Protection Agency, Office of Enforcement and Compliance Assurance, Office of Compliance, Agriculture and Ecosystems Division (2225A), Ariel Rios Building, 1200 Pennsylvania Avenue, N.W., Washington, DC 20460, ATTN: FIFRA Foreign Establishment Registration Contact.

[FR Doc. 00-1965 Filed 1-28-00; 8:45 am]

BILLING CODE 6560-50-P